DEPARTMENT OF LABOR

Employment and Training Administration

[TA-W-74,290]

Supermedia LLC, Formerly Known as Idearc Media LLC, Supermedia Information Services LLC, Client Care Group and Publishing Operations Group Including On-Site Leased Workers Of Advantage (TAC), Resprcconn, Tataconssv, Modis, Amdocs, and Database; Middleton, Massachusetts; Notice of Revised Determination on Reconsideration

By application dated October 7, 2010, the petitioner requested administrative reconsideration of the Department's negative determination regarding the eligibility of workers and former workers of SuperMedia LLC, formerly known as Idearc Media LLC, Client Care Group and Publishing Operations Group, Middleton, Massachusetts to apply for Trade Adjustment Assistance (TAA). On October 7, 2010, the Department issued a Notice of Affirmative Determination Regarding Application for Reconsideration applicable to workers of the subject firm. The Notice was published in the Federal Register on October 25, 2010 (75 FR 65515). The subject workers are engaged in employment related to the supply of customer service, publishing support services, and publishing operations.

During the reconsideration investigation, the Department received information that revealed that the subject firm had shifted to a foreign country a portion of the supply of services like or directly competitive with the services supplied by the subject workers, and that the shift in services contributed importantly to worker group separations at the subject firm.

Conclusion

After careful review of the additional facts obtained on reconsideration, I determine that workers of the subject firm, who are engaged in employment related to the supply of customer service, publishing support services, and publishing operations, meet the worker group certification criteria under Section 222(a) of the Act, 19 U.S.C. 2272(a). In accordance with Section 223 of the Act, 19 U.S.C. 2273, I make the following certification:

“All workers of SuperMedia LLC, formerly known as Idearc Media LLC, Supermedia Information Services LLC, Client Care Group and Publishing Operations Group, including on-site leased workers from Advantage (TAC), Resprcconn, Tataconssv, Modis, Amdocs, and Database, Middleton, Massachusetts, who became totally or partially separated from employment on or after June 23, 2009, through two years from the date of this revised certification, and all workers in the group threatened with total or partial separation from employment on date of certification through two years from the date of certification, are eligible to apply for adjustment assistance under Chapter 2 of Title II of the Trade Act of 1974, as amended.”

Signed in Washington, DC, this 21st day of January, 2011.
Del Min Amy Chen,
Certifying Officer, Office of Trade Adjustment Assistance.

[FR Doc. 2011-2248 Filed 2-1-11; 8:45 am]

BILLING CODE 4510-FN-P